NATIONAL FOUNDATION ON THE ARTS AND HUMANITIES

Notice of Guidelines for Ensuring and Maximizing the Quality, Objectivity, Utility, and Integrity of Information Disseminated by the National Endowment for the Arts

September 26, 2002.

AGENCY: National Endowment for the Arts, National Foundation on the Arts and Humanities.

ACTION: Notice.

SUMMARY: The National Endowment for the Arts (Endowment) announces that its Guidelines for Ensuring and Maximizing the Quality, Objectivity, Utility, and Integrity of Information Disseminated by the National Endowment for the Arts have been posted on the Endowment Web site, www.arts.gov.

FOR FURTHER INFORMATION CONTACT: Hope O'Keeffe, Acting General Counsel, telephone 202-682-5418, ogc@arts.endow.gov. Hearing-impaired individuals may contact the Endowment by TDD/TTY at 202-682-5496.

SUPPLEMENTARY INFORMATION: Section 515 of the Treasury and General Government Appropriations Act for FY 2001 (Pub. L. 106-554) requires each Federal agency to publish guidelines for ensuring and maximizing the quality, objectivity, utility, and integrity of the information it disseminates. Agency guidelines must be based on government-wide guidelines issued by the Office of Management and Budget (OMB). In compliance with this statutory requirement and OMB instructions, the Endowment has posted its Information Quality Guidelines on the Endowment's Web site (www.arts.gov).

The Guidelines describe the agency's procedures for ensuring the quality of information that it disseminates and the procedures by which an affected person may obtain correction of information disseminated by the Endowment that does not comply with the Guidelines. Persons who cannot access the Guidelines through the Internet may request a paper or electronic copy by contacting the Office of the General Counsel.

Dated: September 26, 2002.
For the National Endowment for the Arts.
Hope O'Keeffe,
Acting General Counsel.

[FR Doc. 02-24980 Filed 10-1-02; 8:45 am]

BILLING CODE 7537-01-P